DEPARTMENT OF THE TREASURY

Internal Revenue Service

26 CFR Part 1

[TD 9715]

RIN 1545-BH31

Regulations Revising Rules Regarding Agency for a Consolidated Group; Correction

AGENCY: Internal Revenue Service (IRS), Treasury.

ACTION: Correcting amendment.

SUMMARY: This document contains corrections to final regulations (TD 9715) that were published in the Federal Register on April 1, 2015 (80 FR 17314). The final regulations are regarding the agent for an affiliated group of corporations that files a consolidated return (consolidated group).

DATES: This correction is effective on April 27, 2015 and applicable April 1, 2015.

FOR FURTHER INFORMATION CONTACT: Gerald Fleming at (202) 317-6975 or Richard M. Heinecke at (202) 317-6065 (not a toll free number).

SUPPLEMENTARY INFORMATION:

Background

The final regulations (TD 9715) that are the subject of this correction is under section 1502 of the Internal Revenue Code.

Need for Correction

As published, the final regulations (TD 9715) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.1502-77 is amended by revising the second sentence of paragraph (c)(1) and the first sentence of paragraph (g) to read as follows:

§ 1.1502-77 Agent for the group.

* * * * *

(c) * * * (1) * * * Except as specifically provided otherwise in this paragraph (c), any entity that is an agent pursuant to paragraph (c)(3) of this section (agent following group structure change), paragraph (c)(5) of this section (agent designated by agent terminating without default successor), paragraph (c)(6) of this section (agent designated by Commissioner), or paragraph (c)(7) of this section (agent designated by resigning agent), or any entity subsequently serving as agent following such agent, acts as an agent for and under the same terms and conditions that apply to a common parent. * * *

* * * * *

(g) Examples. Unless otherwise indicated, all entities are domestic and have a calendar year taxable year, and each of P, S, S-1, S-2, S-3, T, U, V, W, W-1, Y, Z, and Z-1 is a corporation. * * *

* * * * *

Martin V. Franks,
Chief, Publications and Regulations Branch, Legal Processing Division, Associate Chief Counsel (Procedure and Administration).

[FR Doc. 2015-09711 Filed 4-24-15; 8:45 am]

BILLING CODE 4830-01-P